ENVIRONMENTAL PROTECTION AGENCY

[EPA-HQ-OPP-2013-0493; FRL-9911-35-OEI]

Information Collection Request Submitted to OMB for Review and Approval; Comment Request; Compliance Requirement for Child-Resistant Packaging (Renewal)

AGENCY: Environmental Protection Agency (EPA).

ACTION: Notice.

SUMMARY: The Environmental Protection Agency (EPA) has submitted the following information collection request (ICR) to the Office of Management and Budget (OMB) for review and approval in accordance with the Paperwork Reduction Act (44 U.S.C. 3501 et seq.): Compliance Requirement for Child-Resistant Packaging (EPA ICR No. 0616.11, OMB Control No. 2070-0052). EPA did not receive any comments in response to the previously provided public review opportunity issued in the Federal Register on September 25, 2013 (78 FR 59014). With this submission, EPA is providing an additional 30 days for public comments. An agency may not conduct or sponsor and a person is not required to respond to a collection of information unless it displays a currently valid OMB control number.

DATES: Submit your comments on or before June 27, 2014.

ADDRESSES: Submit your comments, referencing Docket ID Number EPA-HQ-OPP-2013-0493, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Scott Drewes, Field and External Affairs Division, 7506P, Environmental Protection Agency, 1200 Pennsylvania Ave. NW., Washington, DC 20460; telephone number: 703-347-0107; fax number: 703-305-5884; email address: Drewes.Scott@epa.gov.

SUPPLEMENTARY INFORMATION:

Docket: The ICR, which explains in detail the information collection activities and the related burden and cost estimates, is summarized in this document and is available in the docket for this ICR. The docket can be viewed online at http://www.regulations.gov or in person at the EPA Docket Center, WJC West, Room 3334, 1301 Constitution Ave. NW., Washington, DC. The telephone number for the Docket Center is 202-566-1744. For additional information about EPA's docket, visit http://www.epa.gov/dockets.

ICR Title: Compliance Requirement for Child-Resistant Packaging.

ICR numbers: EPA ICR No. 0616.11, OMB Control No. 2070-0052.

ICR status: The current OMB approval for this ICR is scheduled to expire on May 31, 2014. Under OMB regulations, the Agency may continue to conduct or sponsor the collection of information while this submission is pending at OMB.

Abstract: This information collection program is designed to provide EPA with assurances that the packaging of pesticide products sold and distributed to the general public in the United States meets standards set forth by the Agency pursuant to the Federal Insecticide, Fungicide, and Rodenticide Act (FIFRA). Registrants must certify to the Agency that the packaging or device meets these standards. Section 25(c)(3) of FIFRA authorizes EPA to establish standards for packaging of pesticide products and pesticidal devices to protect children and adults from serious illness or injury resulting from accidental ingestion or contact. The law requires that these standards are designed to be consistent with those under the Poison Prevention Packaging Act, administered by the Consumer Product Safety Commission (CPSC). Unless a pesticide product qualifies for an exemption, if the product meets certain criteria regarding toxicity and use, it must be sold and distributed in child-resistant packaging.

Form Numbers: None.

Respondents/affected entities: Entities potentially affected by this ICR include large and small entities engaged in manufacturing pesticide chemicals, wholesale merchandizing of pesticide products, or pest management activities. The North American Industrial Classification System (NAICS) codes for respondents under this ICR include 325320 (Pesticide and other Agricultural Chemical Manufacturing), 424690 (Other Chemical and Allied Products Merchant Wholesalers), and 561710 (Exterminating and Pest Control Services).

Respondent's obligation to respond: Mandatory.

Estimated number of respondents: 1,733.

Frequency of response: On occasion.

Total estimated burden: 5,507 hours (per year). Burden is defined at 5 CFR 1320.03(b).

Total estimated cost: $ 306,880 (per year). There are no annualized capital or operation & maintenance costs associated with this information collection.

Changes in the Estimates: There is an increase of 614 hours in the total estimated respondent burden compared with the ICR currently approved by OMB. This increase is an adjustment due to revised estimates of the burden per response and a net shift in the type of submissions. The estimated average burden per response increased from 4.20 hours to 8.04 hours per submission. Based on comments received during consultations with stakeholders, EPA increased the burden per response for CRP certifications without data. The average burden per response is an average over all response types. In addition, there has been a change in the distribution of responses among the response types. Although the estimated number of responses for the current ICR renewal is expected to be is expected to decrease from 1,165 in the last ICR approval to 685, there is a net shift from less-burdensome (CRP certifications without data) to more-burdensome (CRP certifications with data) type responses.

Dated: May 16, 2014.
Erin Collard,
Acting Director, Collection Strategies Division.

[FR Doc. 2014-12314 Filed 5-27-14; 8:45 am]

BILLING CODE 6560-50-P